DEPARTMENT OF COMMERCE

National Oceanic and Atmospheric Administration

RIN 0648-XE315

Endangered Species; File Nos. 19331 and 19642

AGENCY: National Marine Fisheries Service (NMFS), National Oceanic and Atmospheric Administration (NOAA), Commerce.

ACTION: Notice; receipt of applications.

SUMMARY: Notice is hereby given that Harold Brundage [Responsible Party], Environmental Research and Consulting, Inc.; 126 Bancroft Rd; Kennett Square, PA 19348, has applied in due form for a permit [File No. 19331] to take shortnose sturgeon (Acipenser brevirostrum) and Atlantic sturgeon (Acipenser oxyrinchus oxyrinchus) for purposes of conducting scientific research; and that Jason Kahn [Responsible Party], NOAA Fisheries, 1315 East-West Highway, Silver Spring, MD 20910, has applied in due form for a permit to take shortnose sturgeon and Atlantic sturgeon for purposes of scientific research.

DATES: Written, telefaxed, or email comments must be received on or before December 28, 2015.

ADDRESSES: The applications and related documents are available for review by selecting “Records Open for Public Comment” from the “Features” box on the Applications and Permits for Protected Species (APPS) home page, https://apps.nmfs.noaa.gov, and then selecting either File No. 19331 or File No. 19642 from the list of available applications.

These documents are also available upon written request or by appointment in the Permits and Conservation Division, Office of Protected Resources, NMFS, 1315 East-West Highway, Room 13705, Silver Spring, MD 20910; phone (301) 427-8401; fax (301) 713-0376.

Written comments on these applications should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on either of these applications would be appropriate.

FOR FURTHER INFORMATION CONTACT: Malcolm Mohead or Rosa L. González, (301) 427-8401.

SUPPLEMENTARY INFORMATION: The subject permits are requested under the authority of the Endangered Species Act of 1973, as amended (ESA; 16 U.S.C. 1531 et seq.) and the regulations governing the taking, importing, and exporting of endangered and threatened species (50 CFR parts 222-226).

File No. 19331: The applicant proposes to combine and continue similar shortnose and Atlantic sturgeon research currently authorized in the Delaware River and Estuary by Permit No 14604 (expiring on April 19, 2016) and Permit No. 16438 (expiring on April 5, 2017), respectively. At issuance of Permit No. 19331, both of the former permits would be terminated. The applicant's new objectives would be to characterize Atlantic and shortnose sturgeon habitat use in the lower Delaware River (between rkm 0 to rkm 245), studying the relative abundance, recruitment, temporal-spatial distributions, and reproduction, as well as assessing the potential for entrainment and impingement of various life stages of Atlantic and shortnose sturgeon at the intakes of selected industrial sites on the Delaware River. The permit would be valid for five years from the date of issuance.

File No. 19642: The applicant has proposed two studies to study Atlantic and shortnose sturgeon in the Chesapeake Bay and other river systems of the Atlantic coast. The primary objective of Study No. 1 would be discovering and quantifying new populations of Atlantic and shortnose sturgeon in the York, Rappahannock, Potomac, and Susquehanna Rivers, and other Chesapeake Bay tributaries of Virginia and Maryland. Researchers would also attempt to monitor spawning activity, movement, and habitat use of individuals of these populations through telemetry and side-scan sonar technology. In Study No. 2, researchers would opportunistically sample Atlantic and shortnose sturgeon legally captured under ESA incidental take permits or incidental take statements authorized by NMFS in other actions. Goals would be to track coastal movements of both species in mixed marine stocks. The permit would be valid for five years from the date of issuance.

Dated: November 23, 2015.
Julia Harrison,
Chief, Permits and Conservation Division, Office of Protected Resources, National Marine Fisheries Service.

[FR Doc. 2015-30133 Filed 11-25-15; 8:45 am]

BILLING CODE 3510-22-P